DEPARTMENT OF JUSTICE

Notice of Lodging Of Consent Decree Under the Comprehensive Environmental Response, Compensation and Liability Act

In accordance with the Department Policy, 28 CFR 50.7, and section 122(d)(2) of the Comprehensive Environmental Response, Compensation and Liability Act (“CERCLA”) 42 U.S.C. 9622(d)(2), notice is hereby given that a proposed consent decree in United States v. City of Hastings, Concrete Industries, Inc., Cooperative Producers, Inc., Desco Corporation, Dutton-Lainson Company, Dravo Corporation, and Morrison Enterprises, Civil Action No. 8:03-351, was lodged with the United States District Court for the District of Nebraska on December 23, 2003.

The Consent Decree resolves claims brought by the United States against the Defendants under sections 106 and 107(a) of the Comprehensive Environmental Response, Compensation, and Liability Act (“CERCLA”), 42 U.S.C. 9606 and 9607(a), for the Area-Wide Operable Unit 19 at the Hastings Ground Water Contamination Site, located in Hastings, Nebraska.

The Consent Decree requires the Defendants to implement the interim remedial action for the Area-Wide OU 119 at the Site, pay $2,250,000.00 of past response costs incurred by the United States, and pay all of the United States' future response costs (estimated $175,000.00). Of that, the Settling Federal Agency, U.S. Navy, will pay $205,000, plus 6% of interim costs, estimated to be an additional $12,000. The EPA estimates the interim remedial action will cost $700,000.00. EPA's past costs are $2.626,910.00.

The Department of Justice will receive written comments on the proposed Consent Decree for a period of thirty (30) days from the date of publication of this notice. Comments should be addressed to the Assistant Attorney General, Environment and Natural Resources Division, P.O. Box 7611, U.S. Department of Justice, Washington, DC 20044-7611, and should refer to United States v. City of Hastings, et al. D.J. Ref. 90-11-2-1112/5.

The Consent Decree may be examined at the Office of the United States Attorney, District of Nebraska, 1620 Dodge Street, Suite 1400, Omaha, Nebraska, and at U.S. Environmental Protection Agency, Region VII, 901 North 5th Street, Kansas City, Kansas. A copy of the Consent Decree may be obtained by mail from the Consent Decree Library, P.O. Box 7611, U.S. Department of Justice, Washington, DC 20044-7611. When requesting a copy, please enclose a check to cover the twenty-five cents per page reproduction costs payable to the “U.S. Treasury” in the amount of $14.25 (for decree without appendices) or $38.50 (for Decree with appendices) and please reference United States v. City of Hastings, et al. D.J. Ref. 90-11-2-1112/5.

During the public comment period, the Consent Decree may be examined on the following Department of Justice Web site: http://www.usdoj.gov/enrd/open.html. or by faxing or e-mailing a request to Tonia Fleetwood (tonia.fleetwood@usdoj. gov), fax no. (202) 514-0097, phone confirmation number (202) 514-1547.

Robert Maher,
Assistant Section Chief, Environmental Enforcement Section, Environment and Natural Resources Division.

[FR Doc. 03-32290 Filed 12-31-03; 8:45 am]

BILLING CODE 4410-15-M